ARCHITECTURAL AND TRANSPORTATION BARRIERS COMPLIANCE BOARD

36 CFR Part 1192

[Docket No. ATBCB 2010-0004]

RIN 3014-AA38

Americans With Disabilities Act (ADA) Accessibility Guidelines for Transportation Vehicles

AGENCY: Architectural and Transportation Barriers Compliance Board.

ACTION: Notice of public hearings.

SUMMARY: The Architectural and Transportation Barriers Compliance Board (Access Board) will hold two public hearings on a proposed rule to revise and update its accessibility guidelines for buses, over-the-road buses, and vans.

DATES: The first public hearing will be held in Chicago, IL on Thursday, September 30, 2010 from 9:30 a.m. to 12 p.m. (CST). The second public hearing will be in Washington, DC on Monday, November 8, 2010 from 9:30 a.m. to 12 p.m. (EST). To pre-register to testify, please contact Kathy Johnson at (202) 272-0041 or Johnson@access-board.gov.

ADDRESSES: The first public hearing will be held at the Courtyard Marriott Magnificent Mile, 165 East Ontario Street, Ontario Rooms B and C, Chicago, IL 60611. The second public hearing will be held at the Access Board Conference Room, 1331 F Street, NW., Suite 800, Washington, DC 20004.

FOR FURTHER INFORMATION CONTACT: Jim Pecht, Architectural and Transportation Barriers Compliance Board, 1331 F Street, NW., Suite 1000, Washington, DC 20004. Telephone (202) 272-0021. E-mail pecht@access-board.gov.

SUPPLEMENTARY INFORMATION: On July 26, 2010, the Access Board published a notice of proposed rulemaking (NPRM) in the Federal Register to revise and update its accessibility guidelines for buses, over-the-road buses, and vans. 75 FR 43748 (July 26, 2010). The comment period on the proposed rule ends on November 23, 2010. The Access Board will hold two public hearings on the proposed rule during the comment period. The dates and locations of the public hearings are provided in this notice. The public hearing locations are accessible to individuals with disabilities. Sign language interpreters and real-time captioning will be provided at the public hearings. For the comfort of other participants, persons attending the public hearings are requested to refrain from using perfume, cologne, and other fragrances. To pre-register to testify, please contact Kathy Johnson at (202) 272-0041 or Johnson@access-board.gov.

David M. Capozzi,
Executive Director.

[FR Doc. 2010-22248 Filed 9-7-10; 8:45 am]

BILLING CODE 8150-01-P